DEPARTMENT OF ENERGY

Federal Energy Regulatory Commission

Combined Notice of Filings #2

Take notice that the Commission received the following electric corporate filings:

Docket Numbers: EC13-34-000.

Applicants: Dynasty Power Inc.

Description: Application of Dynasty Power Inc. under FPA Section 203 under EC13-34.

Filed Date: 11/9/12.

Accession Number: 20121109-5076.

Comments Due: 5 p.m. ET 11/30/12.

Docket Numbers: EC13-35-000.

Applicants: High Prairie Wind Farm II, LLC, Old Trail Wind Farm, LLC, Telocaset Wind Power Partners, LLC.

Description: Application for Authorization for Disposition of Jurisdictional Facilities and Request for Expedited Action of High Prairie Wind Farm II, LLC, et al.

Filed Date: 11/9/12.

Accession Number: 20121109-5138.

Comments Due: 5 p.m. ET 11/30/12.

Take notice that the Commission received the following electric rate filings:

Docket Numbers: ER10-2179-015; ER10-2181-015; ER10-2182-015.

Applicants: Calvert Cliffs Nuclear Power Plant, LLC, Nine Mile Point Nuclear Station, LLC, R.E. Ginna Nuclear Power Plant, LLC.

Description: Notice of Non-Material Change in Status of Calvert Cliffs Nuclear Power Plant, LLC, et al.

Filed Date: 11/9/12.

Accession Number: 20121109-5091.

Comments Due: 5 p.m. ET 11/30/12.

Docket Numbers: ER12-2178-002; ER10-2172-013; ER12-2311-002; ER11-2016-008; ER10-2184-013; ER10-2183-010; ER10-1048-010 ER10-2176-014; ER10-2192-013; ER11-2056-007; ER10-2178-013; ER10-2174-013; ER11-2014-010; ER11-2013-010 ER10-3308-012; ER10-1017-009; ER10-1020-009; ER10-1145-009; ER10-1144-008; ER10-1078-009; ER10-1079-009; ER10-1080-009; ER11-2010-010; ER10-1081-009; ER10-2180-013; ER11-2011-009; ER12-2201-003; ER12-2528-001; ER11-2009-009; ER11-3989-008; ER10-1143-009; ER11-2780-008; ER12-1829-002; ER11-2007-008; ER12-1223-007; ER11-2005-010.

Applicants: AV Solar Ranch 1, LLC, Baltimore Gas and Electric Company, Beebe Renewable Energy, LLC, Cassia Gulch Wind Park, LLC, CER Generation II, LLC, CER Generation, LLC, Commonwealth Edison Company, Constellation Energy Commodities Group, Inc., Constellation Energy Commodities Group Maine, LLC, Constellation Mystic Power, LLC, Constellation NewEnergy, Inc., Constellation Power Source Generation, Inc., Cow Branch Wind Power, L.L.C., CR Clearing, LLC, Criterion Power Partners, LLC, Exelon Energy Company, Exelon Framingham LLC, Exelon New Boston, LLC, Exelon Generation Company, LLC, Exelon New England Power Marketing, LP, Exelon West Medway, LLC, Exelon Wind 4, LLC, Exelon Wyman, LLC, Handsome Lake Energy, LLC, Harvest Windfarm, LLC, High Mesa Energy, LLC, Michigan Wind 1, LLC, Michigan Wind 2, LLC, PECO Energy Company, Safe Harbor Water Power Corporation, Shooting Star Wind Project, LLC, Tuana Springs Energy, LLC, Wildcat Wind, LLC, Wind Capital Holdings, LLC, Harvest Windfarm II, LLC.

Description: Notice of Non-Material Change in Status of AV Solar Ranch 1, LLC, et al.

Filed Date: 11/9/12.

Accession Number: 20121109-5092.

Comments Due: 5 p.m. ET 11/30/12.

Docket Numbers: ER13-346-000.

Applicants: Upper Peninsula Power Company.

Description: Upper Peninsula Power Company submits Notice of Cancellation of Multiple Rate Schedules.

Filed Date: 11/9/12.

Accession Number: 20121109-5078.

Comments Due: 5 p.m. ET 11/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2012.
Nathaniel J. Davis, Sr.,
Deputy Secretary.

[FR Doc. 2012-28009 Filed 11-16-12; 8:45 am]

BILLING CODE 6717-01-P